DEPARTMENT OF DEFENSE

Office of the Secretary

[Docket ID: DOD-2016-OS-0039]

Proposed Collection; Comment Request

AGENCY: Defense Finance and Accounting Service (DFAS), DoD.

ACTION: Notice.

SUMMARY: In compliance with the Paperwork Reduction Act of 1995, the DFAS announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 13, 2016.

ADDRESSES: You may submit comments, identified by docket number and title, by any of the following methods:

• Federal eRulemaking Portal: http://www.regulations.gov. Follow the instructions for submitting comments.

• Mail: ODCMO, Directorate for Oversight and Compliance, 4800 Mark Center Drive, Attn: Mailbox 24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Finance and Accounting Service, Office of Financial Operations, Retired and Annuitant Pay, External Communications Division, ATTN: Chuck Moss, Cleveland, OH 44199-2001, or call at (216) 204-4426.

SUPPLEMENTARY INFORMATION:

Title; Associated Form; and OMB Number: Report of Existence Series; “Report of Existence,” DFAS Form 1800-100; “Report of Existence Non-Receipt Notice,” DFAS Form 1800-101; and “Report of Existence Suspension Notice;” DFAS Form 1800-102; OMB Control Number 0730-XXXX.

Needs and Uses: The information collection requirement is necessary for a trustee, guardian, or conservator of a military retiree to verify eligibility of benefits. The DFAS 1800-101 is used as a second notice, and subsequently, DFAS 1800-102 is used as a third notice and suspension of benefits.

Affected Public: Individuals or Households.

Annual Burden Hours: 650.

Number of Respondents: 1300.

Responses per Respondent: 2.

Annual Responses: 2600.

Average Burden per Response: 15 minutes.

Frequency: Bi-annually.

Respondents are trustees, guardians, or conservators of military retiree to verify eligibility of benefits. Payments are suspended if the DFAS Form 1800-102 is not returned.

Dated: April 8, 2016.
Aaron Siegel,
Alternate OSD Federal Register Liaison Officer, Department of Defense.

[FR Doc. 2016-08567 Filed 4-13-16; 8:45 am]

BILLING CODE 5001-06-P